DEPARTMENT OF HOUSING AND URBAN DEVELOPMENT

[Docket No. FR-7070-N-71]

30-Day Notice of Proposed Information Collection: Section 202 Supportive Housing for the Elderly Application Submission Requirements; OMB Control No.: 2502-0267

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: November 13, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Colette Pollard, Clearance Officer, REE, Department of Housing and Urban Development, 451 7th Street SW, Room 8210, Washington, DC 20410-5000; email PaperworkReductionActOffice@hud.gov.

FOR FURTHER INFORMATION CONTACT: Colette Pollard, Reports Management Officer, REE, Department of Housing and Urban Development, 451 7th Street SW, Washington, DC 20410; email; Colette.Pollard@hud.gov; telephone 202-402-3400. This is not a toll-free number. HUD welcomes and is prepared to receive calls from individuals who are deaf or hard of hearing, as well as individuals with speech and communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on December 6, 2022 at 87 FR 74650.

A. Overview of Information Collection

Title of Information Collection: Section 202 Supportive Housing for the Elderly.

OMB Approval Number: 2502-0267.

OMB Expiration Date: 10/31/2023.

Type of Request: Extension of a currently approved collection.

Form Number: SF-424, Form HUD-92015-CA, Form HUD-2530, Form HUD-2880, Form HUD-2991, Form HUD-2993, Form HUD-92041, Form HUD-92042, SF-LLL.

Information collection | Number of respondents | Frequency of response | Responses per year | Burden hours per response | Annual burden hours | Hourly cost per response* | Total annual cost
Part 1—Application Form for Section 202 Supportive Housing—Capital Advance | 150 | 1 | 150 | 2 | 300 | $94.25 | $28,275
Part 2—Narrative Responses and Forms BELOW:
Tab A: Eligibility and Articles of Incorporation | 150 | 1 | 150 | 2 | 300 | 94.25 | 28,275
Tab B: Demonstration of Need | 150 | 1 | 150 | 2 | 300 | 94.25 | 28,275
Tab C: The Development Plan | 150 | 1 | 150 | 3 | 450 | 94.25 | 42,412
Tab D: Development Budget | 150 | 1 | 150 | 3 | 450 | 94.25 | 42,412
Tab E: Committed Funds | 150 | 1 | 150 | 3 | 450 | 94.25 | 42,412
Tab F: Capital Needs Assessment | 150 | 1 | 150 | 3 | 450 | 94.25 | 42,412
Tab G: Operating Pro Forma | 150 | 1 | 150 | 3 | 450 | 94.25 | 42,412
Tab H: Site Control | 150 | 1 | 150 | 3 | 450 | 94.25 | 42,412
Tab I: Site and Neighborhood Standards | 150 | 1 | 150 | 3 | 450 | 94.25 | 42,412
Tab J: Real Property Acquisition and | 150 | 1 | 150 | 3 | 450 | 94.25 | 42,412
Tab K: Physical Design | 150 | 1 | 150 | 3 | 450 | 94.25 | 42,412
Tab L: Supportive Services | 150 | 1 | 150 | 3 | 450 | 94.25 | 42,412
Tab M: Section 3 Employment Opportunities for Low and Very-Low Income Persons | 150 | 1 | 150 | 2 | 150 | 94.25 | 28,275
Tab N: Market | 150 | 1 | 150 | 3 | 450 | 94.25 | 42,412
Tab O: Capacity and Leverage | 150 | 1 | 150 | 3 | 450 | 94.25 | 42,412
Tab P: Evidence of Compliance with Local Land Use and Zoning Regulations | 150 | 1 | 150 | 1 | 150 | 94.25 | 28,275
Tab Q: Intergenerational Housing (Optional) | 150 | 1 | 150 | 1 | 150 | 94.25 | 28,275
Environmental: Output Sheet verifying HEROS Submission, Phase I Environmental Assessment, Phase II (if required) and description of remedial actions, if required): and Related Laws and Authorities Screens | 150 | 1 | 150 | 2 | 300 | 94.25 | 28,275
Form HUD-92041 | 150 | 1 | 150 | .40 | 60 | 94.25 | 5,655
Form HUD-92042 | 150 | 1 | 150 | .40 | 60 | 94.25 | 5,655
Form HUD-92015-CA | 150 | 1 | 150 | .50 | 75 | 94.25 | 7,069
Totals | 150 |  | 3300 |  | 6795 |  | 725,248
Associated Forms
** Forms are a part of another collection and burden hours are not included under 2502-0267. HUD-2530 is approved under OMB Control Number 2502-0118; HUD-2880 is approved under OMB Control Number 2501-0017; HUD 2993 is approved under OMB Control Number 2577-0259; Form SF-424 is approved under OMB Control Number 4040-0004; Standard Form LLL is approved under OMB Control Number 4040-0013.
Form HUD-2530 ** | 150 | 1 | 150 | 0 | 0 | 0 | 0
Form HUD-2880 ** | 150 | 1 | 150 | 0 | 0 | 0 | 0
Form HUD-2993 ** | 150 | 1 | 150 | .25 | 0 | 0 | 0
Standard Forms
Form SF-424 ** | 150 | 1 | 150 | .75 | 0 | 0 | 0
Standard Form LLL ** | 150 | 1 | 150 | .50 | 0 | 0 | 0

Description of the need for the information and proposed use: This information collection is necessary to the Department to assist HUD in determining applicant eligibility and ability to develop affordable housing for very low-income elderly persons within statutory and program criteria. A thorough evaluation of an applicant's submission is necessary to protect the Government's financial interest.

Respondents: Eligible applicants and any co-sponsors must be private, nonprofit organizations and nonprofit consumer cooperatives with tax-exempt status under Internal Revenue Service code.

Estimated Number of Respondents: 150.

Estimated Number of Responses: 13,150.

Frequency of Response: Annual, dependent on new Congressional appropriation.

Average Hours per Response: 40.

Total Estimated Burden: 5,295.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

(5) ways to minimize the burden of the collection of information on those who are to respond, including the use of automated collection techniques or other forms of information technology.

HUD encourages interested parties to submit comments in response to these questions.

C. Authority

Section 3507 of the Paperwork Reduction Act of 1995, 44 U.S.C. chapter 35.

Colette Pollard,
Department Reports Management Officer, Office of Policy Development and Research, Chief Data Officer.

[FR Doc. 2023-22645 Filed 10-12-23; 8:45 am]

BILLING CODE 4210-67-P